DEPARTMENT OF THE TREASURY

Internal Revenue Service

26 CFR Part 1

[REG-106030-98]

RIN 1545-AW50

Source of Income From Certain Space and Ocean Activities; Source of Communications Income; Hearing Cancellation

AGENCY: Internal Revenue Service (IRS), Treasury.

ACTION: Cancellation of notice of public hearing on proposed rulemaking.

SUMMARY: This document provides notice of cancellation of a public hearing on proposed rulemaking relating to the governing of source of income from certain space and ocean activities under section 863 of the Internal Revenue Code.

DATES: The public hearing originally scheduled for Thursday, December 15, 2005 at 10 a.m., is cancelled.

FOR FURTHER INFORMATION CONTACT: Treena Garrett of the Publications and Regulations Branch, Associate Chief Counsel (Procedure and Administration) at (202) 622-7180 (not a toll-free number).

SUPPLEMENTARY INFORMATION: The notice of proposed rulemaking and notice of public hearing that appeared in the Federal Register on Monday, September 19, 2005 (70 FR 54859), announced that a public hearing was scheduled for Thursday, December 15, 2005, at 10 a.m. in the IRS Auditorium, Internal Revenue Service Building, 1111 Constitution Avenue, NW., Washington, DC. The subject of the public hearing is proposed regulations under section 863 of the Internal Revenue Code. The public comment period for these proposed regulations expired on Wednesday, November 23, 2005. Outlines of oral comments were due on Wednesday, November 23, 2005.

The notice of proposed rulemaking and notice of public hearing, instructed those interested in testifying at the public hearing to submit outlines of the topics to be addressed. As of Wednesday, December 7, 2005, no one has requested to speak. Therefore, the public hearing scheduled for Thursday, December 15, 2005, is cancelled.

Cynthia E. Grigsby,
Acting Chief, Publications and Regulations Branch, Legal Processing Division, Associate Chief Counsel, (Procedure and Administration).

[FR Doc. 05-24038 Filed 12-9-05; 2:32 pm]

BILLING CODE 4830-01-P